DEPARTMENT OF COMMERCE

International Trade Administration

[A-475-703]

Notice of Final Results of Antidumping Duty Administrative Review: Granular Polytetrafluoroethylene Resin From Italy

AGENCY: Import Administration, International Trade Administration, Department of Commerce.

EFFECTIVE DATE: September 12, 2000.

FOR FURTHER INFORMATION CONTACT: Magd Zalok or Charles Riggle, Group II, Office 5, Import Administration, International Trade Administration, U.S. Department of Commerce, 14th Street and Constitution Avenue, NW., Washington, DC 20230; telephone: (202) 482-4162, (202) 482-0650, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (the Department) regulations refer to the regulations codified at 19 CFR Part 351 (April 1999).

SUMMARY: On May 10, 2000, the Department of Commerce published the preliminary results of its administrative review of the antidumping duty order on granular polytetrafluoroethylene resin (PTFE resin) from Italy. This review covers one producer/exporter of subject merchandise. The period of review (POR) is August 1, 1998, through July 31, 1999. Based on our analysis of comments received, these final results differ from the preliminary results. The final results are listed below in the section “Final Results of Review.”

SUPPLEMENTARY INFORMATION:

Background

This review covers sales of PTFE resin made during the POR by Ausimont SpA/Ausimont USA (Ausimont). On May 10, 2000, the Department published the preliminary results of this review. See Notice of Preliminary Results of Antidumping Duty Administrative Review: Polytetrafluoroethylene Resin from Italy, 65 FR 30064 (May 10, 2000) (Preliminary Results). We invited parties to comment on the Preliminary Results. On June 12, 2000, we received case briefs from Ausimont and the petitioner, E.I. DuPont de Nemours & Company (DuPont). On June 19, 2000, we received rebuttal briefs from Ausimont and DuPont.

Scope of the Review

The product covered by this review is granular PTFE resin, filled or unfilled. This order also covers PTFE wet raw polymer exported from Italy to the United States. See Granular Polytetrafluoroethylene Resin from Italy; Final Affirmative Determination of Circumvention of Antidumping Duty Order, 58 FR 26100 (April 30, 1993). This order excludes PTFE dispersions in water and fine powders. During the period covered by this review, the subject merchandise was classified under item number 3904.61.00 of the Harmonized Tariff Schedule of the United States (HTS). We are providing this HTS number for convenience and Customs purposes only. The written description of the scope remains dispositive.

Fair Value Comparisons

We calculated constructed export price (CEP) and normal value (NV) based on the same methodology used in the preliminary results, except for corrections to the calculation of CEP profit. See our response to Comment 2 in the September 5, 2000, memorandum: Issues and Decision Memorandum for the Final Results in the 1998/1999 Antidumping Duty Administrative Review of Granular Polytetrafluoroethylene Resin from Italy (Decision Memorandum), as well as the September 5, 2000, Analysis Memorandum for Ausimont S.p.A.

Analysis of Comments Received

All issues raised in the case and rebuttal briefs by parties to this administrative review are addressed in the September 5, 2000, Decision Memorandum, which is hereby adopted by this notice. Attached to this notice as an appendix is a list of the issues which parties have raised and to which we have responded in the Decision Memorandum. Parties can find a complete discussion of all issues raised in this review and the corresponding recommendations in this public memorandum which is on file in Room B-099 of the main Commerce building. In addition, a complete version of the Decision Memorandum can be accessed directly on the Web at www.ia.ita.doc. The paper copy and electronic version of the Decision Memorandum are identical in content.

Final Results of Review

As a result of our review, we determine that the following percentage weighted-average margin exists for the period August 1, 1998, through July 31, 1999:

Manufacturer/exporter | Period | Margin (percent)
Ausimont S.p.A | 08/01/98-07/31/99 | 0.72

The Department shall determine, and the Customs Service shall assess, antidumping duties on all appropriate entries. In accordance with 19 CFR 351.212(b)(1), we have calculated importer-specific assessment rates by dividing the dumping margin found on the subject merchandise examined by the entered value of such merchandise. We will direct the Customs Service to assess antidumping duties by applying the assessment rate to the entered value of the merchandise.

Furthermore, the following deposit requirements will be effective for all shipments of the subject merchandise entered, or withdrawn from warehouse, for consumption on or after the publication date of these final results of administrative review, as provided by section 751(a) of the Act: (1) For Ausimont, the cash deposit rate will be the rate listed above; (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent final results in which that manufacturer participated; and (4) if neither the exporter nor the manufacturer is a firm covered in this review or in any previous segment of this proceeding, the cash deposit rate will be 46.46 percent, the “all others” rate established in the less-than-fair-value investigation (50 FR 26019, June 24, 1985). These deposit requirements shall remain in effect until publication of the final results of the next administrative review.

This notice also serves as a final reminder to importers of their responsibility to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (APO) of their responsibility concerning the return or destruction of proprietary information disclosed under APO in accordance with 19 CFR 353.34(d). Timely written notification of the return/destruction of APO materials or conversion to judicial protective order is hereby requested.

Failure to comply with the regulations and the terms of an APO is a sanctionable violation. This determination is issued and published in accordance with sections 751(a)(1) and 777(i)(1) of the Act.

This determination is issued and published in accordance with sections 751(a)(1) and 777(i)(1) of the Act.

Dated: September 5, 2000.
Troy H. Cribb,
Acting Assistant Secretary for Import Administration.

Appendix

List of Comments in the Issues and Decision Memorandum:

1. Application of the Special Rule for Value Added Merchandise; and

2. CEP Profit Calculation.

[FR Doc. 00-23392 Filed 9-11-00; 8:45 am]

BILLING CODE 3510-DS-P